ELECTION ASSISTANCE COMMISSION

Sunshine Act Meeting Notice

AGENCY: United States Election Assistance Commission.

ACTION: Notice of public meeting (amended).

Date & Time: Thursday, October 4, 2007, 10 a.m.-1 p.m.

Place: U.S. Election Assistance Commission, 1225 New York Ave., NW., Suite 150, Washington, DC 20005, (Metro Stop: Metro Center).

Agenda: Commissioners will receive the following presentations: Commissioners will receive updates on the next iteration of the Voluntary Voting System Guidelines (VVSG) and a report on a recommendation from the National Voluntary Laboratory Accreditation Program (NVLAP); Commissioners will consider an internal policy for handling State requests to change State-specific instructions to the National Voter Registration Form; Commissioners have granted a request from Secretary of State of Arizona to make a statement before the Commission; Commissioners will discuss other administrative matters.

This meeting will be open to the public.

FOR FURTHER INFORMATION CONTACT: Bryan Whitener, Telephone: (202) 566-3100.

Thomas R. Wilkey,
Executive Director, U.S. Election Assistance Commision.

[FR Doc. 07-4834 Filed 9-26-07; 2:44 am]

BILLING CODE 6820-KF-M